FEDERAL MINE SAFETY AND HEALTH REVIEW COMMISSION

Sunshine Act Notice

January 30, 2017.

TIME AND DATE: 10:00 a.m., Wednesday, February 15, 2017.

PLACE: The Richard V. Backley Hearing Room, Room 511N, 1331 Pennsylvania Avenue NW., Washington, DC 20004 (enter from F Street entrance).

STATUS: Open.

MATTERS TO BE CONSIDERED: The Commission will hear oral argument in the matter Secretary of Labor v. Canyon Fuel Company, LLC, Docket Nos. WEST 2015-635, et al. (Issues include whether the Judge erred in concluding that the operator had violated standards governing the safety of alternative escapeways.)

Any person attending this oral argument who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO ARGUMENT: 1 (866) 867-4769, Passcode: 129-339.

Sarah L. Stewart,
Deputy General Counsel.

[FR Doc. 2017-02205 Filed 1-30-17; 4:15 pm]

BILLING CODE 6735-01-P